FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 011962-017.

Agreement Name: Consolidated Chassis Management Pool Agreement.

Parties: Ocean Carrier Equipment Management Association, Inc.; Consolidated Chassis Enterprises LLC; CCM Pools LLC; Consolidated Chassis Management LLC; Maersk A/S and Hamburg Sud (acting as a single party); CMA CGM S.A., APL Co. Pte. Ltd., and American President Lines, Ltd. (acting as a single party); COSCO SHIPPING Lines Co., Ltd.; Evergreen Line Joint Service Agreement; Ocean Network Express Pte. Ltd.; Hapag-Lloyd AG and Hapag-Lloyd USA LLC (acting as a single party); HMM Company Limited; MSC Mediterranean Shipping Co., S.A.; Zim Integrated Shipping Services Ltd; Matson Navigation Company; Westwood Shipping Lines; and Yang Ming Marine Transport Corp.

Filing Party: Jeffrey Lawrence and Donald Kassilke; Cozen O'Connor.

Synopsis: The Amendment deletes OOCL (USA) Inc. as a party and updates the name of HMM Co., Ltd.

Proposed Effective Date: 9/9/2020.

Location: https://www2.fmc.gov/FMC.Agreements.Web/Public/AgreementHistory/454.

Agreement No.: 011284-083.

Agreement Name: Ocean Carrier Equipment Management Association.

Parties: Maersk A/S and Hamburg Sud (acting as a single party); CMA CGM S.A., APL Co. Pte. Ltd., and American President Lines, Ltd. (acting as a single party); COSCO SHIPPING Lines Co., Ltd.; Evergreen Line Joint Service Agreement; Ocean Network Express Pte. Ltd.; Hapag-Lloyd AG and Hapag-Lloyd USA LLC (acting as a single party); HMM Company Limited; Zim Integrated Shipping Services Ltd.; MSC Mediterranean Shipping Company S.A.; Wan Hai Lines Ltd.;

Filing Party: Jeffrey Lawrence and Donald Kassilke; Cozen O'Connor.

Synopsis: The amendment changes the name of HMM Company Limited.

Proposed Effective Date: 9/9/2020.

Location: https://www2.fmc.gov/FMC.Agreements.Web/Public/AgreementHistory/1560.

Dated: September 11, 2020.
Rachel E. Dickon,
Secretary.

[FR Doc. 2020-20452 Filed 9-15-20; 8:45 am]

BILLING CODE 6730-02-P